DEPARTMENT OF TRANSPORTATION

Federal Aviation Administration

Notice of Intent To Rule on Application To Use the Revenue From a Passenger Facility Charge (PFC) at Central IL Regional Airport, Bloomington, Il

AGENCY: Federal Aviation Administration (FAA), DOT.

ACTION: Notice of intent to rule on application.

SUMMARY: This correction revises information from the previously published notice.

In notice document 00-21642 appearing on page 51638 in the issue of Thursday, August 24, 2000, under SUPPLEMENTARY INFORMATION, in the third column, in the 10th line, the date the FAA will approve or disapprove the application, in whole or in part, no later than should read, “September 29, 2000”.

FOR FURTHER INFORMATION CONTACT: Denis Rewerts, Civil Engineer, Chicago Airports District Office, 2300 East Devon Ave., Room 320, Des Plaines, Illinois 60018, (847) 294-7195.

Issued in Des Plaines, Illinois on August 29, 2000.
Benito De Leon,
Manager, Planning and Programming Branch, Airports Division, Great Lakes Region.

[FR Doc. 00-23683 Filed 9-13-00; 8:45 am]

BILLING CODE 4910-13-M